DEPARTMENT OF HOMELAND SECURITY

Federal Emergency Management Agency

Agency Information Collection Activities: Submission for OMB Review; Comment Request

AGENCY: Federal Emergency Management Agency, Emergency Preparedness and Response Directorate, U.S. Department of Homeland Security

ACTION: Notice and request for comments.

SUMMARY: The Federal Emergency Management Agency (FEMA) has submitted the following information collection to the Office of Management and Budget (OMB) for review and clearance in accordance with the requirements of the Paperwork Reduction Act of 1995 (44 U.S.C. Chapter 35). The submission describes the nature of the information collection, the categories of respondents, the estimated burden (i.e., the time, effort and resources used by respondents to respond) and cost, and includes the actual data collection instruments FEMA will use.

Title: National Incident Management System Compliance Assurance Support Tool (NIMCAST).

OMB Number: 1660-0087.

Abstract: The National Incident Management System Compliance Assessment Tool (NIMCAST) is a 75 data element instrument used to: (a) Evaluate State, local and Tribal governments' compliance with standards and requirements established in the National Incident Management System (NIMS), (b) determine eligibility for Federal preparedness assistance, and (c) strengthen incident management programs at the department, agency, or jurisdictional level.

Affected Public: State, local and Tribal Government, and not for profit institutions.

Number of Respondents: 4,835 respondents.

Estimated Time per Respondent: 3 hours.

Estimated Total Annual Burden Hours: 14,505 hours.

Frequency of Response: Once annually for all respondents. Occasionally, subsequent assessments or follow-ups may be required for some respondents on a case-by-case basis not exceeding two responses per year.

Comments: Interested persons are invited to submit written comments on the proposed information collection to the Office of Information and Regulatory Affairs at OMB, Attention: Desk Officer for the Department of Homeland Security/FEMA, Docket Library, Room 10102, 725 17th Street, NW., Washington, DC 20503, or facsimile number (202) 395-7285. Comments must be submitted on or before January 18, 2005.

FOR FURTHER INFORMATION CONTACT: Requests for additional information or copies of the information collection should be made to Muriel B. Anderson, Section Chief, Records Management, FEMA at 500 C Street, SW., Room 316, Washington, DC 20472, facsimile number (202) 646-3347, or e-mail address FEMA-Information-Collections@dhs.gov.

Dated: December 10, 2004.
George S. Trotter,
Acting Branch Chief, Information Resources Management Branch, Information Technology Services Division.

[FR Doc. 04-27625 Filed 12-16-04; 8:45 am]

BILLING CODE 9110-17-P